DEPARTMENT OF HEALTH AND HUMAN SERVICES

Indian Health Service

Office of Clinical and Preventive Services, Division of Nursing Services Nursing Program, Schools of Nursing

Correction

In notice document E8-14457 beginning on page 36333 in the issue of Thursday, June 26, 2008 make the following corrections:

1. On page 36333, in the second column, under the I. Funding Opportunity Description heading, in the eighth line, “(AI/AN5)” should read “(AI/ANs)”.

2. On page 36334, in the third column, in the sixth line from the top, “c-mails” should read “e-mails”

3. On the same page, in the same column, in the first full paragraph, in the second line, “11-IS” should read “IHS”.

4. On page 36335, in the second column, under the fourth bullet, in the fifth line, “DUO” should read “DGO”.

5. On the same page, in the third column, in the 13th line from the bottom, “DNIP” should read “DNP”.

6. On page 36336, in the third column, under the 3. Indirect Costs heading, in the fifth line, “Part 11-27” should read “Part II-27”.

7. On the same page, in the same column, under the same heading, in the same line, “IIHS” should read “IHS”.

[FR Doc. Z8-14457 Filed 7-10-08; 8:45 am]

BILLING CODE 1505-01-D

DEPARTMENT OF THE INTERIOR

Minerals Management Service

[Docket No. MMS-2008-OMM-0007]

MMS Information Collection Activity: 1010-0141, 30 CFR Part 250, Subpart D, Oil and Gas Drilling Operations, Extension of a Collection; Submitted for Office of Management and Budget (OMB) Review; Comment Request

Correction

In notice document E8-14893 beginning on page 37475 in the issue of Tuesday, July 1, 2008 make the following correction:

On page 37475, in the first column, between the first and second paragraphs, the dates section did not appear. It should be included to read as follows: “DATE: Submit written comments by July 31, 2008.”

[FR Doc. Z8-14893 Filed 7-10-08; 8:45 am]

BILLING CODE 1505-01-D